DEPARTMENT OF THE TREASURY

Office of Thrift Supervision

Charter Bank: Santa Fe, New Mexico; Notice of Appointment of Receiver

Notice is hereby given that, pursuant to the authority contained in section 5(d)(2) of the Home Owners' Loan Act, the Office of Thrift Supervision has duly appointed the Federal Deposit Insurance Corporation as sole Receiver for Charter Bank, Santa Fe, New Mexico, (OTS No. 08337) on January 22, 2010.

Dated: January 25, 2010.
By the Office of Thrift Supervision.
Sandra E. Evans,
Federal Register Liaison.

[FR Doc. 2010-1779 Filed 1-28-10; 8:45 am]

BILLING CODE 6720-01-M